DEPARTMENT OF COMMERCE

National Oceanic and Atmospheric Administration

RIN 0648-XC621

Atlantic Highly Migratory Species; Public Conference Call and Webinar Regarding Updates to the HMS Recreational Fishing Action Plan

AGENCY: National Marine Fisheries Service (NMFS), National Oceanic and Atmospheric Administration (NOAA), Commerce.

ACTION: Announcement of public conference call and webinar.

SUMMARY: NMFS will hold a public conference call to discuss progress on current goals and objectives in the 2011 Atlantic Highly Migratory Species (HMS) Recreational Fishing Action Agenda and potential updates to the Agenda. The 2011 Atlantic HMS Recreational Fishing Action Agenda was developed as part of a national effort to provide a comprehensive perspective of our efforts relating to recreational fisheries.

DATES: An operator-assisted, public conference call and webinar will be held on May 15, 2013, from 2:00 p.m. to 5:00 p.m., EDT.

ADDRESSES: The conference call information is phone number 800-857-5085; participant pass code 1116226. We will also show a brief presentation via webinar. RSVP at https://www1.gotomeeting.com/register/253309785. A confirmation email with webinar log-in information will be sent after your RSVP has been registered. The presentation and any supporting information will be posted on the HMS Web site at: http://www.nmfs.noaa.gov/sfa/hms.

FOR FURTHER INFORMATION CONTACT: Clifford Hutt at 301-427-8503; Brad McHale at (978) 281-9139; or Randy Blankenship at (727) 824-5313.

SUPPLEMENTARY INFORMATION: The Secretary of Commerce manages Atlantic HMS, including Atlantic tunas, sharks, billfish, and swordfish, and has delegated that authority to NMFS. Atlantic HMS are managed under the dual authority of the Magnuson-Stevens Fishery Conservation and Management Reauthorization Act (MSA) and the Atlantic Tunas Convention Act (ATCA). Management of HMS requires international cooperation given the migratory nature of the species.

In December 2011, as part of a national effort to provide a comprehensive perspective of our efforts relating to recreational fisheries, we released the 2011 Atlantic HMS Recreational Fishing Action Agenda to serve as a publicly available roadmap detailing priorities and objectives for addressing recreational fishing issues. Development of the 2011 Atlantic HMS Recreational Fishing Action Agenda included input from the Atlantic HMS Advisory Panel and the Marine Fisheries Advisory Committee (MAFAC) Recreational Fisheries Working Group. The 2011 Atlantic HMS Recreational Fishing Action Agenda is available at http://www.nmfs.noaa.gov/sfa/hms/rec/12-0611_rec_action_agenda_atlantic_hms.pdf.

On May 15, 2013, we will hold a public conference call and webinar to discuss updating the 2011 Atlantic HMS Recreational Fishing Action Agenda. The purpose of this call is to report on our progress toward achieving the goals and objectives laid out in the original action agenda, and to discuss potential revisions to the plan. Additionally, we will discuss efforts to improve HMS recreational fishing opportunities, recreational catch and effort data, social and economic data on recreational fisheries, and communication with recreational constituents.

The call will start with a presentation, which participants and interested parties can follow via webinar, that will cover an overview of the current HMS Recreational Fishing Action Agenda, and our progress towards accomplishing the objectives listed therein. The presentation will be followed by a discussion among members of the HMS Advisory Panel, the MAFAC Recreational Fisheries Working Group, recreational constituents, academics researching HMS fisheries, non-governmental organizations interested in HMS recreational fishing issues, and members of the public. For information on how to participate in the call, see DATES and ADDRESSES.

Dated: April 24, 2013.
Kara Meckley,
Acting Deputy Director, Office of Sustainable Fisheries, National Marine Fisheries Service.

[FR Doc. 2013-10142 Filed 4-29-13; 8:45 am]

BILLING CODE 3510-22-P